INTERNATIONAL TRADE COMMISSION

[Investigation Nos. 701-TA-688 and 731-TA-1612-1613 and 1615-1617 (Final)]

Brass Rod From Brazil, India, Mexico, South Africa, and South Korea; Determinations

On the basis of the record ¹ developed in the subject investigations, the United States International Trade Commission (“Commission”) determines, pursuant to the Tariff Act of 1930 (“the Act”), that an industry in the United States is materially injured by reason of imports of brass rod from Brazil, India, Mexico, South Africa, and South Korea, provided for in subheadings 7407.21.15, 7407.21.30, 7407.21.70, and 7407.21.90 of the Harmonized Tariff Schedule of the United States, that have been found by the U.S. Department of Commerce (“Commerce”) to be sold in the United States at less than fair value (“LTFV”), and imports of the subject merchandise from South Korea that have been found by Commerce to be subsidized by the government of South Korea.2 3

¹ The record is defined in § 207.2(f) of the Commission's Rules of Practice and Procedure (19 CFR 207.2(f)).

² 89 FR 29290, 89 FR 29303, 89 FR 29300, 89 FR 29305, 89 FR 29292, 89 FR 29298, and 89 FR 29290, April 22, 2024.

³ Commissioner David S. Johanson dissenting.

Background

The Commission instituted these investigations effective April 27, 2023, following receipt of petitions filed with the Commission and Commerce by American Brass Rod Fair Trade Coalition, Washington, District of Columbia; Mueller Brass Co., Port Huron, Michigan; and Wieland Chase LLC, Montpelier, Ohio. The Commission scheduled the final phase of the investigations following notification of a preliminary determination by Commerce that imports of brass rod from India were subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of October 5, 2023 (88 FR 6922). The Commission conducted its hearing on December 12, 2023. All persons who requested the opportunity were permitted to participate.

The investigation schedules became staggered when Commerce did not align its countervailing duty investigation with its antidumping duty investigation regarding India, and reached an earlier final countervailing duty determination. On February 1, 2024, the Commission issued a final affirmative determination in its countervailing duty investigation of brass rod from India (89 FR 8440, February 7, 2024). Following notification of final determinations by Commerce that imports of brass rod from Brazil, India, Mexico, South Africa, and South Korea were being sold at LTFV within the meaning of section 735(a) of the Act (19 U.S.C. 1673d(a)) and imports of brass rod from South Korea were being subsidized by the government of South Korea within the meaning of section 705(a) of the Act (19 U.S.C. 1671d(a)), notice of the supplemental scheduling of the final phase of the Commission's antidumping duty investigations regarding brass rod from Brazil, India, Mexico, South Africa, and South Korea and countervailing duty investigation regarding brass rod from South Korea was given by posting copies of the notice in the Office of the Secretary, U.S. International Trade Commission, Washington, DC, and by publishing the notice in the Federal Register of May 1, 2024 (89 FR 35236).

The Commission made these determinations pursuant to § 705(b) and § 735(b) of the Act (19 U.S.C. 1671d(b) and 19 U.S.C. 1673d(b)). It completed and filed its determinations in these investigations on June 5, 2024. The views of the Commission are contained in USITC Publication 5513 (June 2024), entitled Brass Rod from Brazil, India, Mexico, South Africa, and South Korea: Investigation Nos. 701-TA-688 and 731-TA-1612-1613 and 1615-1617 (Final).

By order of the Commission.
Issued: June 5, 2024.
Lisa Barton,
Secretary to the Commission.

[FR Doc. 2024-12696 Filed 6-10-24; 8:45 am]

BILLING CODE 7020-02-P